FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010982-035.

Title: Florida-Bahamas Shipowner and Operators Association.

Parties: Tropical Shipping and Construction Co., Ltd.; King Maritime, Inc.; Pioneer Shipping Ltd.; Crowley Liner Services, Inc.; Seaboard Marine, Ltd.; G&G Marine, Inc.; and Caicos Cargo Ltd.

Synopsis: The agreement adds a King Maritime, Inc. as a party to the agreement.

Agreement No.: 011867-001.

Title: Norasia/GSL/CSCL Round the World Service Agreement.

Parties: Norasia Container Lines Limited; Gold Star Line Ltd.; and China Shipping Container Lines Co., Ltd.

Synopsis: The amendment adds China Shipping Container Lines Co., Ltd as a party and makes conforming changes to accommodate its participation.

By Order of the Federal Maritime Commission.
Dated: February 12, 2004.
Bryant L. VanBrakle,
Secretary.

[FR Doc. 04-3589 Filed 2-18-04; 8:45 am]

BILLING CODE 6730-01-P